ENVIRONMENTAL PROTECTION AGENCY

[FRL-9984-26—Region 9]

Clean Air Act Operating Permit Program; Petition for Objection to State Operating Permit for the Phillips 66 San Francisco Refinery

AGENCY: Environmental Protection Agency (EPA).

ACTION: Notice of final Order on Petition for objection to Clean Air Act title V operating permit.

SUMMARY: The Environmental Protection Agency (EPA) Administrator signed an Order dated August 8, 2018, denying a Petition dated March 19, 2018, from Communities for a Better Environment, San Francisco Baykeeper, Center for Biological Diversity, Friends of the Earth, Stand.earth, and Sierra Club. The Petition requested that the EPA object to a Clean Air Act (CAA) title V operating permit issued by the Bay Area Air Quality Management District (BAAQMD or the District) to Facility No. A0016, the Phillips 66 San Francisco Refinery (Phillips 66 or the facility), located in Contra Costa County, California.

ADDRESSES: The EPA requests that you contact the individual listed in the FOR FURTHER INFORMATION CONTACT section to view copies of the final Order, the Petition, and other supporting information. You may review copies of the final Order, the Petition, and other supporting information at the EPA Region IX Office, 75 Hawthorne Street, San Francisco, California 94105. You may view the hard copies Monday through Friday, from 9 a.m. to 3 p.m., excluding federal holidays. If you wish to examine these documents, you should make an appointment at least 24 hours before the visiting day. Additionally, the final Order and Petition are available electronically at: https://www.epa.gov/title-v-operating-permits/title-v-petition-database.

FOR FURTHER INFORMATION CONTACT: Shaheerah Kelly, EPA Region IX, (415) 947-4156, kelly.shaheerah@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise such objections during the comment period or unless the grounds for such objections arose after this period.

The EPA received the Petition from Communities for a Better Environment, San Francisco Baykeeper, Center for Biological Diversity, Friends of the Earth, Stand.earth, and Sierra Club dated March 19, 2018, requesting that the EPA object to the issuance of operating permit for Facility No. A0016, issued by the BAAQMD to Phillips 66 in Contra Costa County, California. The Petition raised various claims centered around the allegation that the District improperly and unlawfully issued a title V permit renewal because it included an approval of permitted capacity increases for two hydrocracking emission units without providing adequate notice to the public and without a legal or factual basis for the approval.

On August 8, 2018, the EPA Administrator issued an Order denying the Petition. The Order explains the basis for the EPA's decision.

Sections 307(b) and 505(b)(2) of the CAA provide that a petitioner may request judicial review of those portions of an order that deny issues in a petition. Any petition for review shall be filed in the United States Court of Appeals for the appropriate circuit no later than November 26, 2018.

Dated: September 6, 2018.
Deborah Jordan,
Acting Regional Administrator, Region IX.

[FR Doc. 2018-21085 Filed 9-26-18; 8:45 am]

BILLING CODE 6560-50-P